UTAH RECLAMATION MITIGATION AND CONSERVATION COMMISSION

Notice of Availability of the Decision Notice and Finding of No Significant Impact for Ute Tribe Fish Hatchery Construction in Utah

AGENCY: Utah Reclamation Mitigation and Conservation Commission.

ACTION: Notice of availability.

SUMMARY: The Utah Reclamation Mitigation and Conservation Commission (Mitigation Commission) and the Ute Tribe have prepared an Environmental Assessment (EA) to determine the effects of construction of a Ute Tribe Fish Hatchery to be located at Big Springs and Youth Camp in Duchesne County, Utah. After considering public comments and analyzing environmental effects, the proposed action was selected, which provides for the construction, operation and maintenance of the Ute Tribe Hatchery.

The Proposed Action consists of: developing the water supply and internal water delivery systems, hatchery building, fish rearing units, staff housing and power supply. The facility is located on approximately 4 acres on the Uintah and Ouray Indian Reservation.

Construction of the Ute Tribe Fish Hatchery will allow the Tribe to meet its fishery long-term stocking needs and management objectives for providing cold-water sport fishing opportunities and Colorado River cutthroat trout conservation. Under the Proposed Action, annual production of the facility will be approximately 16,000 pounds, at a total estimated cost of $3 million.

Based on information contained in the EA and supporting documentation, a Finding of No Significant Impact was made on the Proposed Action, as it would not significantly affect the quality of human environment, within the meaning of the National Environment Policy Act. In addition, specific issues would be addressed as follows: facility design will be coordinated with Tribal Elders to avoid impacts to the culturally important site at Big Springs; water quality issues will be addressed through compliance with a pertinent discharge permit; a wetland mitigation plan will be coordinated with the U.S. Army Corps of Engineers for estimated wetland impacts; and appropriate measures will be designed to avoid adverse impacts to raptors will be implemented.

ADDRESSES: Copies of the FONSI can be obtained at the Utah Reclamation Mitigation and Conservation Commission, 230 South 500 East, Suite 230, Salt Lake City, Utah, 84102-2045.

It may also be viewed on the Internet at: http://www.mitigationcommission.gov/news.html.

FOR FURTHER INFORMATION CONTACT: Maureen Wilson, 801-524-3146.

Dated: June 13, 2007.
Michael C. Weland,
Executive Director, Utah Reclamation Mitigation and Conservation Commission.

[FR Doc. E7-12060 Filed 6-21-07; 8:45 am]

BILLING CODE 4310-05-P